DEPARTMENT OF COMMERCE

National Oceanic and Atmospheric Administration

Proposed Information Collection; Comment Request; West Coast Region, Pacific Coast Groundfish Fishery: Trawl Rationalization Cost Recovery Program

AGENCY: National Oceanic and Atmospheric Administration (NOAA), Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before December 9, 2019.

ADDRESSES: Direct all written comments to Adrienne Thomas, PRA Officer, NOAA, 151 Patton Avenue, Room 159, Asheville, NC 28801 (or at PRAcomments@doc.gov). All comments received are part of the public record. Comments will generally be posted without change. All Personally Identifiable Information (for example, name and address) voluntarily submitted by the commenter may be publicly accessible. Do not submit Confidential Business Information or otherwise sensitive or protected information.

FOR FURTHER INFORMATION CONTACT: Requests for additional information or copies of the information collection instrument and instructions should be directed to Christopher Biegel, (503) 231-6291 or christopher.biegel@noaa.gov.

SUPPLEMENTARY INFORMATION:

I. Abstract

This request is for an extension of a currently approved information collection. The Magnuson-Stevens Fishery Conservation and Management Act authorizes and requires the collection of cost recovery fees for Limited Access Privilege Programs, such as the Pacific Coast Groundfish Trawl Rationalization Program (Trawl Program). Cost recovery fees may not exceed three percent of the ex-vessel value and must recover costs associated with the management, data collection and analysis, and enforcement of these programs. The Trawl Program's cost recovery program requires fish sellers to submit fees to fish buyers who then submit those fees to NOAA's National Marine Fisheries Service (NMFS). Fish buyers must also submit information to NMFS on the volume and value of harvested groundfish when submitting the fees. Information is collected from monthly and annual reports as well as non-payment documents when necessary.

This program is authorized under the Pacific coast groundfish fishery regulations, trawl rationalization cost recovery program at 50 CFR 660.115.

II. Method of Collection

Cost recovery fee payments for the Trawl Program must be submitted online through the Federal web portal Pay.gov. Annual reports are submitted by mail or email.

Payments for the Shorebased Individual Fishing Quota (IFQ) and Mothership (MS) sectors cost recovery fees are submitted online monthly through Pay.gov. The Catcher Processer (CP) sector submits cost recovery fees online yearly through Pay.gov. All payments must be made online.

The MS sector submits an annual report yearly by mail or email.

III. Data

OMB Control Number: 0648-0663.

Form Number(s): None.

Type of Review: Regular submission.

Affected Public: Individuals or households, Business or other for-profit organizations.

Estimated Number of Respondents: 167.

Estimated Time per Response: Cost recovery forms (online fee payments): 1 hour; Annual report: 1 hour; Failure to pay report: 4 hours.

Estimated Total Annual Burden Hours: 1,862.

Estimated Total Annual Cost to Public: $22,344 in reporting costs.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Sheleen Dumas,
Departmental Lead PRA Officer, Office of the Chief Information Officer, Commerce Department.

[FR Doc. 2019-22000 Filed 10-8-19; 8:45 am]

BILLING CODE 3510-22-P